DEPARTMENT OF JUSTICE

[OMB Number 1140-0017]

Agency Information Collection Activities; Proposed eCollection eComments Requested; Revision of a Previously Approved Collection; Annual Firearms Manufacturing and Exportation Report (AFMER) Under 18 U.S.C. Chapter 44, Firearms—ATF Form 5300.11

AGENCY: Bureau of Alcohol, Tobacco, Firearms and Explosives, Department of Justice.

ACTION: 60-Day notice.

SUMMARY: The Department of Justice (DOJ), Bureau of Alcohol, Tobacco, Firearms and Explosives (ATF), will be submitting the following information collection request to the Office of Management and Budget (OMB) for review and approval in accordance with the Paperwork Reduction Act of 1995.

DATES: Comments are encouraged and will be accepted for 60 days until September 5, 2023.

FOR FURTHER INFORMATION CONTACT: If you have additional comments especially on the estimated public burden or associated response time, suggestions, or need a copy of the proposed information collection instrument with instructions or additional information, contact: Leslie Anderson, Office ATF-FFLC, either by mail at 244 Needy Road, Martinsburg, WV 25405, by email at Leslie.anderson@atf.gov, or telephone at 301-616-4634.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: The information collected is used to compile statistics on the manufacture and exportation of firearms. The furnishing of this information is mandatory under 18 U.S.C. 923(g)(5)(A). This form must be submitted annually for every Type 07 and Type 10 Federal Firearms Licensees (FFLs), even if no firearms were exported or distributed into commerce. The information collection (IC) OMB #1140-0017 is being revised due to material and non-material changes to the form, such as added instructions, definitions, formatting changes (to adjust form length), bolded lines (to fillable boxes), grammatical changes (sentence rephrasing/statement modification), and instruction clarification.

Overview of This Information Collection

1. Type of Information Collection: Revision of a previously approved collection.

2. The Title of the Form/Collection: Annual Firearms Manufacturing and Exportation Report (AFMER) Under 18 U.S.C. Chapter 44, Firearms.

3. The agency form number, if any, and the applicable component of the Department sponsoring the collection:

Form number: ATF Form 5300.11.

Component: Bureau of Alcohol, Tobacco, Firearms and Explosives, U.S. Department of Justice.

4. Affected public who will be asked or required to respond, as well as the obligation to respond:

Affected Public: Private Sector—Business or other for-profit.

The obligation to respond is Mandatory and required to obtain or retain a benefit. The statutory requirements are implemented under 18 U.S.C. chapter 44.

5. An estimate of the total number of respondents and the amount of time estimated for an average respondent to respond: An estimated 19,200 respondents will utilize the form annually, and it will take each respondent approximately 20 minutes to complete their responses.

6. An estimate of the total annual burden (in hours) associated with the collection: The estimated annual public burden associated with this collection is 6,400 hours, which is equal to 19,200 (total respondents) * 1 (# of response per respondent) *.33333 (20 minutes).

7. An estimate of the total annual cost burden associated with the collection, if applicable: No new cost is associated with this collection. All respondents can electronically submit the AFMER to ATF free of charge, however, it is estimated that half the respondents submit the form to the Federal Firearms Licensing Center by mail. The annual cost has increased due to a change in the postal rate from $0.55 during the last renewal in 2020, to $0.63 in 2023. Consequently, the new public cost burden will be reported as $6,048.00, which is equal to $0.63 (mailing cost per respondent) * 19,200 (# of respondents) * 50% (percentage of responses submitted by mail).

Total Burden Hours
Activity | Number of respondents | Frequency | Total annual responses | Time per response (min.) | Total annual burden (hours)
ATF Form 5300.11 | 19,200 | 1/annually | 19,200 | 20 | 6,400

If additional information is required contact: John Carlson, Department Clearance Officer, United States Department of Justice, Justice Management Division, Policy and Planning Staff, Two Constitution Square, 145 N Street NE, 4W-218, Washington, DC.

Dated: June 29, 2023.
John Carlson,
Department Clearance Officer for PRA, U.S. Department of Justice.

[FR Doc. 2023-14273 Filed 7-5-23; 8:45 am]

BILLING CODE 4410-FY-P